DEPARTMENT OF STATE

[Public Notice 5354]

Bureau of Political-Military Affairs: Export of Lethal Defense Articles/Defense Services to Indonesia

AGENCY: Department of State.

ACTION: Notice.

SUMMARY: Notice is hereby given that requests for the export or retransfer of lethal defense articles to Indonesia (and defense services related to such lethal defense articles) pursuant to section 38 of the Arms Export Control Act will be considered on a case-by-case basis.

DATES: Effective Date: March 29, 2006.

FOR FURTHER INFORMATION CONTACT: Mr. James Juraska, Office of Defense Trade Controls Policy, Department of State, Telephone (202) 663-22860 or Fax (202) 261-8199.

SUPPLEMENTARY INFORMATION: It is the policy of the U.S. Government, effective as of March 17, 2006, to consider on a case-by-case basis applications for the export of lethal defense articles and related defense services to Indonesia. Section 599F(b) of the FY 2006 Foreign Operations, Export Financing and Related Programs Appropriations Act allows for the issuance of licenses for the export of lethal defense articles for the Indonesian Armed Forces should the Secretary of State waive, as being in the national security interest of the United States, legislative requirements for certification of certain conditions pertaining to Indonesia. Such a waiver was signed on November 16, 2005. The Department has also determined that it shall be U.S. Government policy to consider on a case-by-case basis applications for the export of lethal defense articles and related defense services to Indonesia.

Previously, Federal Register Notices were published on October 14, 1999 (64 FR 55805), January 25, 2001 (66 FR 7836), and March 22, 2001 (66 FR 16085), that set forth a policy of denial for new export requests for Indonesia and suspended all licenses and approvals to export or otherwise transfer defense articles and defense services to Indonesia, except for certain exports related to commercial communication satellites and Y2K compliance activities that were not for the Indonesian military; permitted review, on a case-by-case basis, of requests for the export of C-130 spare parts to Indonesia, including for the Government of Indonesia; and, expanded the review, on a case-by-case basis, to defense articles/defense services exported to Indonesia for ultimate end-use by a third-country, respectively.

Further changes to the export policy toward Indonesia were reflected in a Federal Register Notice published on December 18, 2001 (66 FR 65235) that expanded the categories of defense articles/defense services eligible for consideration for export/transfer to Indonesia, on a case-by-case basis, to include: (a) Non-lethal defense articles and spare parts; and (b) non-lethal, safety-of-use spare parts for lethal end-items. For purposes of that Notice, “non-lethal defense articles” meant an item not a weapon, ammunition, or other equipment or material designed to inflict serious bodily harm or death (see, e.g., 10 U.S.C. 2557). Examples of safety-of-use items were cartridge actuated devices, propellant actuated devices, and technical manuals for military aircraft for purposes of enhancing the safety of the aircraft crew. No distinction was made between Indonesia's existing and new inventory.

This Notice expands what may be authorized for export to Indonesia to include lethal defense articles controlled on the U.S. Munitions List, as well as defense services related to the export of such lethal defense articles. Applications for such exports will be considered on a case-by-case basis in accordance with standard practice.

This action is taken pursuant to Sections 38 and 42 of the Arms Export Control Act (22 U.S.C. 2778, 2791) and § 126.7 of the ITAR in furtherance of the foreign policy of the United States.

Dated: March 22, 2006.
Gregory M. Suchan,
Acting Assistant Secretary, Bureau of Political Military Affairs, Department of State.

[FR Doc. E6-4555 Filed 3-28-06; 8:45 am]

BILLING CODE 4710-25-P